DEPARTMENT OF AGRICULTURE

Submission for OMB Review; Notice of Request for Emergency Approval

May 13, 2021.

In compliance with the requirements of the Paperwork Reduction Act of 1995 (PRA), the Department of Agriculture (USDA) has submitted a request to the Office of Management and Budget (OMB) for a six-month emergency approval of the following information collection: ICR 0570-NEW, Rural Development Cooperative Agreements (RDCA). The requested approval would enable the collection of this information and the implementation of this program while USDA completes the normal PRA approval process.

Rural Business-Cooperative Service

Title: Rural Development Cooperative Agreements (RDCA).

OMB Control Number: 0570-NEW.

Summary of Collection: Due to a three-fold decision by the White House, Congress, and the USDA it is paramount that this program be implemented no later than May 20, 2021. In part due to the critical need to deliver funding to rural communities, and to ensure that the information is collected for this new information collection remains active during the PRA approval process, USDA has submitted a request to the OMB for a short-term emergency approval, to November 30, 2021.

On May 10, 2021 the Director, Regulations Management Division Innovation Center, Rural Development, USDA signed a memorandum to the Administrator of the Office of Information and Regulatory Affairs, OMB. The memorandum included a request for an emergency approval, explained USDA's justification for this approval, and was electronically submitted to OMB on May 11, 2021.

Levi S. Harrell,
Departmental Information Collection Clearance Officer.

[FR Doc. 2021-10449 Filed 5-17-21; 8:45 am]

BILLING CODE 3410-XY-P